ENVIRONMENTAL PROTECTION AGENCY

40 CFR Part 1054

Control of Emissions From New, Small Nonroad Spark-Ignition Engines and Equipment

CFR Correction

This rule is being published by the Office of the Federal Register to correct an editorial or technical error that appeared in the most recent annual revision of the Code of Federal Regulations.

In Title 40 of the Code of Federal Regulations, Parts 1000 to 1059, revised as of July 1, 2023, in § 1054.801, remove the second definition of “Equipment manufacturer” and place the remaining definition in alphabetical order, and reinstate the definition of “Engine manufacturer” in alphabetical order to read as follows:

§ 1054.801 What definitions apply to this part?

* * * * *

Engine manufacturer means the manufacturer of the engine. See the definition of “manufacturer” in this section.

* * * * *

[FR Doc. 2023-21520 Filed 9-27-23; 8:45 am]

BILLING CODE 0099-10-P